DEPARTMENT OF TRANSPORTATION

Federal Railroad Administration

[Docket Number FRA-2007-0030]

Notice of Petition for Extension of Waiver of Compliance

AGENCY: Federal Railroad Administration (FRA), Department of Transportation (DOT).

ACTION: Notice.

SUMMARY: This document provides the public notice that New Jersey Transit Corporation (NJ Transit) petitioned FRA to extend an existing waiver of certain regulations related to a shared use property.

DATES: FRA must receive comments on the petition by December 19, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: John Mardente, Railroad Safety Specialist, FRA Engineering & Technology Division, telephone: 202-493-1335, email: john.mardente@dot.gov.

SUPPLEMENTARY INFORMATION: Under part 211 of title 49 Code of Federal Regulations (CFR), this document provides the public notice that by letter dated September 12, 2025 NJ Transit petitioned FRA for a one-year extension of a waiver of compliance from certain provisions of the Federal railroad safety regulations contained at 49 CFR parts 219, 221, 222, 223, 229, 231, 234, 236, 238, 239, 242, 243, and 270. The relevant Docket Number is FRA-2007-0030.

Specifically, NJ Transit seeks to extend the terms and conditions of its existing shared use waiver, requesting the following extended relief:

• partial relief from parts 221, 223, 229, 234, 236, and 238; and

• full relief from parts 219, 222, 231, 238, 239, 242, 243, and 270.

NJ Transit requests extended relief for one year, as NJ Transit has transitioned operations and maintenance tasks for the Southern New Jersey Light Rail system (RiverLINE) from Alstom Transportation, Inc. to NJ Transit. The petition explains that the extension would allow NJ Transit “sufficient time to develop a transition plan, policies, and procedures as well as the data to support a future petition” about the RiverLINE. NJ Transit explains that requesting a full, 5-year extension of relief at this time would not provide FRA with “sufficient, real-time information and documentation to consider a waiver renewal.”

The relief in this docket supports the continued operation of the RiverLINE rail fixed guideway public transit system operating between Camden and Trenton, New Jersey. The passenger service uses non-FRA compliant articulated diesel multiple units and is temporally separated from freight service on Consolidated Rail Corporation's track.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by December 19, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-20284 Filed 11-18-25; 8:45 am]

BILLING CODE 4910-06-P